FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—04/30/2001
20011690 | Tyco International Ltd | Com-Net Critical Communications, Inc | Com-Net Critical Communications, Inc.
20011707 | Avnet, Inc | Kent Electronics Corporation | Kent Electronics Corporation.
20011723 | Gerald W. Schwartz | Avaya Inc. | Avaya Inc.
20011731 | Leap Wireless International, Inc | American Wireless License Group, LLC | American Wireless License Group, LLC.
20011734 | Novell, Inc | Cambridge Technology Partners, Inc | Cambridge Technology Partners, Inc.
20011738 | Constellation Brands, Inc | Ravenswood Winery, Inc | Ravenswood Winery, Inc.
20011741 | Pope & Talbot, Inc | Norske Skogindustrier ASA | Norske Skog Canada Mackenzie Pulp Limited
20011742 | Koninklijke Ahold nv | Mutual Distributors, Inc | Mutual Distributors, Inc.
20011748 | Temple-Inland Inc | Chesapeake Corporation | Capitol Packaging Company. Chesapeake Packaging Co.
20011749 | Mr. Yizhak Sharon | The Williams Companies, Inc | Mapco Express, Inc.
20011753 | GlaxoSmithKline plc | Minnesota Mining and Manufacturing Company | 3M Innovative Properties Company
20011754 | Hicks, Muse, Tate & Furst Equity Fund V, L.P | Vlasic Foods International Inc | VF Brands, Inc., Aligar, Inc., Cargal, Inc. Vlasic Foods Canada, Inc., Vlasic Int'l Brands, Inc. Vlasic Foods Distribution Company, Vlasic Standards Inc.
20011756 | MBNA Corporation | Desert Schools Federal Credit Union | Desert Schools Federal Credit Union.
Transactions Granted Early Termination—05/03/2001
20011729 | Assa Abloy AB | United Dominion Industries Limited | United Dominion Industries Limited.
20011755 | Crown Finance Foundation | Global TeleSystems, Inc | Global Telecom, Inc.
Transactions Granted Early Termination—05/08/2001
20011764 | Boyd Gaming Corporation | Shawn Scott | Delta Downs Racing Association, Inc. Delta Downs, Incorporated, Winner's Circle #1 of Madison, LLC.
Transactions Granted Early Termination—05/09/2001
20011735 | Johnson & Johnson | Alza Corporation | Alza Corporation.
20011762 | SES Global S.A | General Electric Company | GE Subsidiary, Inc., GE Capital Global Satellites, Inc.
20011768 | Benfield Greig Group plc | E.W. Blanch Holdings, Inc | E.W. Blanch Holdings, Inc.

For Further Information Contact: Sandra M. Peay or Parcellena P. Fielding, Contact Representatives, Federal Trade Commission, Premerger Notification Office, Bureau of Competition, Room 303, Washington, D.C. 20580, (202) 326-3100.

By direction of the Commission.

Donald S. Clark,
Secretary.

[FR Doc. 01-13556 Filed 5-29-01; 8:45 am]

BILLING CODE 6750-01-M